DEPARTMENT OF COMMERCE

International Trade Administration

[A-580-844]

Steel Concrete Reinforcing Bars from the Republic of Korea: Extension of the Time Limit for the Preliminary Results of Antidumping Duty Administrative Review

AGENCY: Import Administration, International Trade Administration, Department of Commerce.

EFFECTIVE DATE: May 30, 2006.

FOR FURTHER INFORMATION CONTACT: Thomas Martin at (202) 482-3936, AD/CVD Operations, Office 4, Import Administration, International Trade Administration, U.S. Department of Commerce, 14th Street and Constitution Avenue, NW., Washington, DC 20230.

SUPPLEMENTARY INFORMATION:

Background

On September 21, 2005, Dongkuk Steel Mill Co. Ltd., a Korean producer of subject merchandise, requested an administrative review of the antidumping duty order on Steel Concrete Reinforcing Bars from Korea. On September 30, 2005, the petitioners in the proceeding, the Rebar Trade Action Coalition and its individual members, also requested an administrative review of the antidumping order.¹ On October 25, 2005, the Department published a notice of initiation of the administrative review, covering the period September 1, 2004, through August 31, 2005. See Initiation of Antidumping and Countervailing Duty Administrative Reviews, 70 FR 61601 (October 25, 2005) (“Initiation Notice”). The preliminary results are currently due no later than June 2, 2006.

¹ The Rebar Trade Action Coalition comprises Gerdau AmeriSteel, CMC Steel Group, Nucor Corporation, and TAMCO.

Statutory Time Limits

Section 751(a)(3)(A) of the Tariff Act of 1930, as amended (the Act), requires the Department of Commerce (the Department) to complete the preliminary results of an administrative review within 245 days after the last day of the anniversary month of an order for which a review is requested, and the final results within 120 days after the date on which the preliminary results are published. However, if it is not practicable to complete the review within these time periods, section 751(a)(3)(A) of the Act allows the Department to extend the time limit for (1) the preliminary results to a maximum of 365 days after the last day of the anniversary month of an order for which a review is requested, and (2) the final results to 180 days (or 300 days if the Department does not extend the time limit for the preliminary results) from the date of publication of the preliminary results.

Extension of Time Limit for Preliminary Results of Review

We determine that it is not practicable to complete the preliminary results of this review within the original time limits. Specifically, a complex affiliation issue has been raised. Korea Iron & Steel Co. Ltd., has reported that it is affiliated with Hwangyoung Steel Industries Co. Ltd., and has reported the home market sales and cost of production for this company. The Department needs more time to evaluate the affiliation issue and the reported data more thoroughly. For these reasons, we are extending the time limit for completion of the preliminary results until no later than September 30, 2006. We intend to issue the final results no later than 120 days after publication of the preliminary results.

This notice is issued and published in accordance with sections 751(a)(3)(A) and 777(i) of the Act.

Dated: May 23, 2006.
Stephen J. Claeys,
Deputy Assistant Secretary for Import Administration.

[FR Doc. E6-8276 Filed 5-26-06; 8:45 am]

BILLING CODE 3510-DS-S